DEPARTMENT OF AGRICULTURE

Animal and Plant Health Inspection Service

9 CFR Part 93

[Docket No. 00-115-3]

Specifically Approved States Authorized To Receive Mares and Stallions Imported From Regions Where CEM Exists

AGENCY: Animal and Plant Health Inspection Service, USDA.

ACTION: Direct final rule; establishment and confirmation of new effective date.

SUMMARY: We are notifying the public of a change in the effective date of a direct final rule that amends our animal import regulations to add Oregon to the list of States approved to receive certain mares and stallions from regions affected with contagious equine metritis. The direct final rule was originally scheduled to become effective on February 16, 2001; however, on February 5, 2001, we published a document in the Federal Register that temporarily delayed the effective date by 60 days in order to give Department officials the opportunity for further review and consideration of the new regulations, consistent with the Assistant to the President's memorandum, “Regulatory Review Plan,” of January 20, 2001. Department officials have completed their review of the direct final rule and have determined that the rule may be made effective without further delay.

EFFECTIVE DATE: February 16, 2001.

FOR FURTHER INFORMATION CONTACT: Dr. Karen James, Assistant Director, National Center for Import and Export, Technical Trade Services, VS, APHIS, 4700 River Road Unit 39, Riverdale, MD 20737-1231; (301) 734-8364.

SUPPLEMENTARY INFORMATION: On December 18, 2000, the Animal and Plant Health Inspection Service published in the Federal Register (65 FR 78897-78899, Docket No. 00-115-1) a direct final rule notifying the public of our intention to amend the animal importation regulations in 9 CFR part 93 by adding Oregon to the lists of States approved to receive certain mares and stallions imported into the United States from regions affected with contagious equine metritis (CEM). In that document, we stated that the direct final rule would become effective on February 16, 2001, unless we received written adverse comments or written notice of intent to submit adverse comments in response to the direct final rule by January 17, 2001. We did not receive any written adverse comments or written notice of intent to submit adverse comments, so we were prepared to confirm the February 16, 2001, effective date.

However, on February 5, 2001, we published a document in the Federal Register (66 FR 8887, Docket No. 00-115-2) informing the public that we were temporarily delaying for 60 days the effective date of the rule. That action was taken in accordance with the memorandum of January 20, 2001, from the Assistant to the President and Chief of Staff, entitled “Regulatory Review Plan,” which was published in the Federal Register on January 24, 2001 (66 FR 7701-7702). As we explained in our February 5, 2001, document, the temporary 60-day delay in effective date was necessary to give Department officials the opportunity for further review and consideration of new regulations, as directed by the memorandum of January 20, 2001.

Department officials have completed their review and consideration of our December 18, 2000, direct final rule and have determined that the rule may be made effective without further delay. Therefore, this document serves to establish and confirm February 16, 2001, as the effective date for the direct final rule adding Oregon to the lists of States approved to receive certain mares and stallions imported into the United States from regions affected with CEM that was published in the Federal Register on December 18, 2000, at 65 FR 78897-78899.

Effective Date

This is a substantive rule that relieves restrictions and, pursuant to the provisions of 5 U.S.C. 553, may be made effective less than 30 days after publication in the Federal Register.

The rule adds Oregon to the lists of States approved to receive certain mares and stallions imported into the United States from regions affected with CEM. We are taking this action because Oregon has entered into an agreement with the Administrator of the Animal and Plant Health Inspection Service to enforce its State laws and regulations to control CEM and to require inspection, treatment, and testing of horses, as required by Federal regulations, to further ensure the horses' freedom from CEM. This action relieves unnecessary restrictions on the importation of mares and stallions from regions where CEM exists. Therefore, the Administrator of the Animal and Plant Health Inspection Service has determined that this rule should be effective upon signature.

Authority: 7 U.S.C. 1622; 19 U.S.C. 1306; 21 U.S.C. 102-105, 111, 114a, 134a, 134b, 134c, 134d, 134f, 136, and 136a; 31 U.S.C. 9701; 7 CFR 2.22, 2.80, and 371.4.

Done in Washington, DC, this 16th day of February 2001.
Bobby R. Acord,
Acting Administrator, Animal and Plant Health Inspection Service.

[FR Doc. 01-4392 Filed 2-21-01; 8:45 am]

BILLING CODE 3410-34-U